DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated National and Blocked Persons List based on OFAC's determination that one or more applicable legal criteria were satisfied. All property and interests in property subject to U.S. jurisdiction of these persons are blocked, and U.S. persons are generally prohibited from engaging in transactions with them.

DATES: See SUPPLEMENTARY INFORMATION section for date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treas.gov/ofac).

Notice of OFAC Actions

On July 18, 2017, OFAC determined that the property and interests in property subject to U.S. jurisdiction of the following persons are blocked under the relevant sanctions authorities listed below.

Individuals

1. LIU, Emily (a.k.a. BAOXIA, Liu; a.k.a. LAU, Emily), China; DOB 10 Sep 1981; POB Shandong, China; nationality China; Additional Sanctions Information—Subject to Secondary Sanctions; Gender Female; Passport G28882492 (China) expires 04 May 2018 (individual) [NPWMD] [IFSR] (Linked To: SHIRAZ ELECTRONICS INDUSTRIES).

Designated pursuant to section 1(a)(iii) of Executive Order 13382 of June 28, 2005, “Blocking Property of Weapons of Mass Destruction Proliferators and Their Supporters” (“E.O. 13382”) for having provided, or attempted to provide, financial, material, technological, or other support for, or goods or services in support of, SHIRAZ ELECTRONICS INDUSTRIES, a person whose property and interests in property are blocked pursuant to E.O. 13382.

2. GHASEMI, Seyyed Reza (a.k.a. QASEMI, Seyed Reza); Additional Sanctions Information—Subject to Secondary Sanctions; National ID No. 004-3-94558-9 (Iran); Chief Executive Officer, Rayan Roshd Afzar Company; Managing Director, Rayan Roshd Afzar Company (individual) [NPWMD] [IFSR] (Linked To: RAYAN ROSHD AFZAR COMPANY).

Designated pursuant to section 1(a)(iv) of E.O. 13382 for acting or purporting to act for or on behalf of, directly or indirectly, RAYAN ROSHD AFZAR COMPANY, a person whose property or interests in property are blocked pursuant to E.O. 13382.

3. HAKEMZADEH, Farshad; Additional Sanctions Information—Subject to Secondary Sanctions; National ID No. 005-1-61706-4 (Iran) (individual) [NPWMD] [IFSR] (Linked To: RAYAN ROSHD AFZAR COMPANY).

Designated pursuant to section 1(a)(iv) of E.O. 13382 for acting or purporting to act for or on behalf of, directly or indirectly, RAYAN ROSHD AFZAR COMPANY, a person whose property or interests in property are blocked pursuant to E.O. 13382.

4. PARSAJAM, Mohsen (a.k.a. HODJATABADI, Mohsen Kargar; a.k.a. HODJAT ABADI, Mohsen Kargar; a.k.a. “KARGAR, Mohsen”); DOB 23 Aug 1964; POB Qom, Iran; nationality Iran; Additional Sanctions Information—Subject to Secondary Sanctions; Gender Male; Passport N95873956 (Iran) expires 05 May 2020; National ID No. 038-1-57690-6 (Iran); Chairman of the Board, Rayan Roshd Afzar Company (individual) [NPWMD] [IFSR] (Linked To: RAYAN ROSHD AFZAR COMPANY).

Designated pursuant to section 1(a)(iv) of E.O. 13382 for acting or purporting to act for or on behalf of, directly or indirectly, RAYAN ROSHD AFZAR COMPANY, a person whose property or interests in property are blocked pursuant to E.O. 13382.

5. TAVAN, Resit (a.k.a. TAVAN, Reshit); DOB 01 Jan 1977; nationality Turkey; Additional Sanctions Information—Subject to Secondary Sanctions; Passport U06314813 (Turkey) (individual) [NPWMD] [IFSR] (Linked To: QESHM MADKANDALOO SHIPBUILDING COOPERATIVE CO).

Designated pursuant to section 1(a)(iii) of E.O. 13382 for having provided, or attempted to provide, financial, material, technological, or other support for, or goods or services in support of, QESHM MADKANDALOO SHIPBUILDING COOPERATIVE CO, a person whose property and interests in property are blocked pursuant to E.O. 13382.

6. AJILY, Mohammed Saeed (a.k.a. AJILI, Sa'id); DOB 03 Sep 1982; nationality Iran (individual) [TCO] (Linked To: AJILY SOFTWARE PROCUREMENT GROUP).

Designated pursuant to sections 1(a)(ii)(C) of E.O. 13581, “Blocking Property of Transnational Criminal Organizations” (“E.O. 13581”) for having acted or purported to act for or on behalf of, directly or indirectly, the AJILY SOFTWARE PROCUREMENT GROUP, a person whose property and interests in property are blocked pursuant to E.O. 13581.

7. REZAKHAH, Mohammed Reza (a.k.a. REZAKHAH, Mohammad Reza); DOB 04 Aug 1978; nationality Iran (individual) [TCO] (Linked To: AJILY SOFTWARE PROCUREMENT GROUP).

Designated pursuant to sections 1(a)(ii)(C) of E.O. 13581 for having acted or purported to act for or on behalf of, directly or indirectly, the AJILY SOFTWARE PROCUREMENT GROUP, a person whose property and interests in property are blocked pursuant to E.O. 13581.

Entities

1. ABASCIENCE TECH CO. LTD., Room 1724, Si Fang Building No. 5, Xiao Ying Road, ChaoYang District, Beijing 100101, China; 14C, Hung Shui Kiu Main Street, Yuen Long, N.T., Hong Kong; Additional Sanctions Information—Subject to Secondary Sanctions [NPWMD] [IFSR] (Linked To: SHIRAZ ELECTRONICS INDUSTRIES; Linked To: LIU, Emily).

Designated pursuant to sections 1(a)(iii) and 1(a)(iv) of E.O. 13382 for having provided, or attempted to provide, financial, material, technological, or other support for, or goods or services in support of, SHIRAZ ELECTRONICS INDUSTRIES, a person whose property and interests in property are blocked pursuant to E.O. 13382, and for being owned or controlled by EMILY LIU, a person whose property and interests in property are blocked pursuant to E.O. 13382.

2. RAYBEAM OPTRONICS CO. LTD., 10-D, Blessgo Industrial Park, Yanjiao High and New Tech Zone, Beijing 101601, China; 10-D Blessgo Industrial Park, Yanjiao Economic Development Zone, Sanhe, Hebei Province, China; Additional Sanctions Information—Subject to Secondary Sanctions [NPWMD] [IFSR] (Linked To: LIU, Emily).

Designated pursuant to section 1(a)(iv) of E.O. 13382 for being owned or controlled by EMILY LIU, a person whose property and interests in property are blocked pursuant to E.O. 13382.

3. RAYTRONIC CORPORATION, LIMITED, No. 901, Jing Shu Dong Li, Haidian Dist, Beijing 100083, China; Additional Sanctions Information—Subject to Secondary Sanctions [NPWMD] [IFSR] (Linked To: LIU, Emily).

Designated pursuant to section 1(a)(iii) of E.O. 13382 for having provided, or attempted to provide, financial, material, technological, or other support for, or goods or services in support of, EMILY LIU, a person whose property and interests in property are blocked pursuant to E.O. 13382.

4. SUNWAY TECH CO., LTD, No. 1724, Xiao Ying Rd, Si Fang Building, Chao Yang District, Beijing, China; Additional Sanctions Information—Subject to Secondary Sanctions [NPWMD] [IFSR] (Linked To: SHIRAZ ELECTRONICS INDUSTRIES; Linked To: LIU, Emily).

Designated pursuant to sections 1(a)(iii) and 1(a)(iv) of E.O. 13382 for having provided, or attempted to provide, financial, material, technological, or other support for, or goods or services in support of, SHIRAZ ELECTRONICS INDUSTRIES, a person whose property and interests in property are blocked pursuant to E.O. 13382, and for being owned or controlled by EMILY LIU, a person whose property and interests in property are blocked pursuant to E.O. 13382.

5. RAYAN ROSHD AFZAR COMPANY (a.k.a. RAYAN ROSHD COMPANY; a.k.a. “RAYAN ROSHD”), No. 16, Barazandeh St., North Sohrevardi St., Seyed Khandan, Tehran, Iran; Number 24 Barzandeh St., North Sohrevardi Ave., Tehran, Iran; Additional Sanctions Information—Subject to Secondary Sanctions [NPWMD] [IFSR] (Linked To: ISLAMIC REVOLUTIONARY GUARD CORPS).

Designated pursuant to section 1(a)(iii) of E.O. 13382 for having provided, or attempted to provide, financial, material, technological, or other support for, or goods or services in support of, the ISLAMIC REVOLUTIONARY GUARD CORPS, a person whose property and interests in property are blocked pursuant to E.O. 13382.

6. QESHM MADKANDALOO SHIPBUILDING COOPERATIVE CO (a.k.a. MAD KANDALU COMPANY; a.k.a. MAD KANDALU SHIPBUILDING COOPERATIVE; a.k.a. MAD KANDALU SHIPBUILDING COOPERATIVE QESHM; a.k.a. MADKANDALOU COMPANY), Qeshm Island, Iran; Web site www.madkandaloo.com; Additional Sanctions Information—Subject to Secondary Sanctions [NPWMD] [IFSR] (Linked To: ISLAMIC REVOLUTIONARY GUARD CORPS).

Designated pursuant to section 1(a)(iii) of E.O. 13382 for having provided, or attempted to provide, financial, material, technological, or other support for, or goods or services in support of, the ISLAMIC REVOLUTIONARY GUARD CORPS, a person whose property and interests in property are blocked pursuant to E.O. 13382.

7. RAMOR GROUP (a.k.a. RAMOR DIS TICARET VE INSAAT YATIRIM ANONIM SIRKETI), Ataturk mah. 42 Ada Gardenya 7/1 Kat. 12 D.77 Atasehir, Istanbul, Turkey; 42A ADA Kat: 12, Daire: 77, No: 7/1, Gardenya Plaza, Atasehir, Istanbul 34758, Turkey; Web site www.ramor.com.tr; Additional Sanctions Information—Subject to Secondary Sanctions [NPWMD] [IFSR] (Linked To: TAVAN, Resit).

Designated pursuant to section 1(a)(iv) of E.O. 13382 for being owned or controlled by RESIT TAVAN, a person whose property and interests in property are blocked pursuant to E.O. 13382.

8. AJILY SOFTWARE PROCUREMENT GROUP, Iran [TCO].

Designated pursuant to sections 1(a)(ii)(A) of E.O. 13581 for being a foreign person that constitutes a significant transnational criminal organization.

9. ANDISHEH VESAL MIDDLE EAST COMPANY, No. 3, Unit 6, Daroos Building, Qanat Crossroad, Dolat St, Pasdaran Ave., Tehran, Iran [TCO] (Linked To: AJILY SOFTWARE PROCUREMENT GROUP).

Designated pursuant to sections 1(a)(ii)(C) of E.O. 13581 for having acted or purported to act for or on behalf of, directly or indirectly, the AJILY SOFTWARE PROCUREMENT GROUP, a person whose property and interests in property are blocked pursuant to E.O. 13581.

Dated: July 18, 2017.
John E. Smith,
Director, Office of Foreign Assets Control.

[FR Doc. 2017-15364 Filed 7-20-17; 8:45 am]

BILLING CODE 4810-AL-P